DEPARTMENT OF HEALTH AND HUMAN SERVICES

Food and Drug Administration

21 CFR Part 1

[Docket No. FDA-2008-N-0160] (formerly Docket No. 2002N-0276)

Registration of Food Facilities Under the Public Health Security and Bioterrorism Preparedness and Response Act of 2002; Technical Amendment

AGENCY: Food and Drug Administration, HHS.

ACTION: Final rule; technical amendment.

SUMMARY: The Food and Drug Administration (FDA) is amending its regulations to change the fax number to which food facility registration forms under the Public Health Security and Bioterrorism Preparedness and Response Act of 2002 (the Bioterrorism Act) can be sent. This action is editorial in nature and is intended to improve the accuracy of the agency's regulations.

DATES: This rule is effective March 26, 2008.

FOR FURTHER INFORMATION CONTACT: Catherine Copp, Center for Food Safety and Applied Nutrition (HFS-4), Food and Drug Administration, 5100 Paint Branch Pkwy., College Park, MD 20740, 301-436-2379.

SUPPLEMENTARY INFORMATION: FDA is amending its regulations in part 1 (21 CFR part 1). Several sections in part 1 cite a fax number to which food facility registration forms under the Bioterrorism Act (Public Law 107-188) can be sent. This rule replaces the obsolete information with correct information.

The final rule contains no collection of information. Therefore, clearance by the Office of Management and Budget under the Paperwork Reduction Act of 1995 is not required.

Publication of this document constitutes final action on these changes under the Administrative Procedure Act (5 U.S.C. 553). These amendments remove obsolete information and are not substantive. FDA therefore, for good cause, finds under 5 U.S.C. 553(b)(3)(B) and (d)(3) that notice and comment are unnecessary.

List of Subjects in 21 CFR Part 1

Cosmetics, Drugs, Exports, Food labeling, Imports, Labeling, Reporting and recordkeeping requirements.

Therefore, under the Federal Food, Drug, and Cosmetic Act and under authority delegated to the Commissioner of Food and Drugs, 21 CFR part 1 is amended as follows:

PART 1—GENERAL ENFORCEMENT REGULATIONS

1. The authority citation for 21 CFR part 1 continues to read as follows:

Authority: 15 U.S.C. 1453, 1454, 1455; 19 U.S.C. 1490, 1491; 21 U.S.C. 321, 331, 332, 333, 334, 335a, 343, 350c, 350d, 352, 355, 360b, 362, 371, 374, 381, 382, 393; 42 U.S.C. 216, 241, 243, 262, 264.

2. Section 1.231 is amended by revising paragraph (b)(2) to read as follows:

§ 1.231 How and where do you register?

* * * * *

(b) * * *

(2) When you receive the form, you must fill it out completely and legibly and either mail it to the address in paragraph (b)(1) of this section or fax it to 301-436-2804 or 1-800-573-0846.

* * * * *

3. Section 1.234 is amended by revising paragraph (d)(2) to read as follows:

§ 1.234 How and when do you update your facility's registration information?

* * * * *

(d) * * *

(2) When you receive the form, you must legibly fill out the sections of the form reflecting your updated information and either mail it to the address in paragraph (d)(1) of this section or fax it to 301-436-2804 or

1-800-573-0846.

* * * * *

4. Section 1.235 is amended by revising paragraph (d)(2) to read as follows:

§ 1.235 How and when do you cancel your facility's registration information?

* * * * *

(d) * * *

(2) When you receive the form, you must completely and legibly fill out the form and either mail it to the address in paragraph (d)(1) of this section or fax it to 301-436-2804 or 1-800-573-0846.

* * * * *

Dated: March 18, 2008.
Jeffrey Shuren,
Associate Commissioner for Policy and Planning.

[FR Doc. E8-6052 Filed 3-25-08; 8:45 am]

BILLING CODE 4160-01-S